DEPARTMENT OF TRANSPORTATION

Coast Guard

33 CFR Part 117

[CGD08-01-051]

Drawbridge Operating Regulation; Falgout Canal, LA

AGENCY: Coast Guard, DOT.

ACTION: Notice of temporary deviation from regulations.

SUMMARY: The Commander, Eighth Coast Guard District has issued a temporary deviation from the regulation in 33 CFR 117.444 governing the operation of the SR 315 drawbridge across the Falgout Canal, mile 3.1, in Terrebonne Parish, Louisiana. This deviation allows the Louisiana Department of Transportation and Development to maintain the bridge in the closed-to-navigation position from 8 a.m. until 4 p.m. each day from January 7 through January 18, 2002, to allow for maintenance to the bridge. During the scheduled closure, the bridge will open for the passage of vessels at 10 a.m., 12 noon and 2 p.m. and the bridge owner will open the draw as soon as practicable for an emergency aboard a vessel.

DATES: This deviation is effective from 8 a.m. on Monday, January 7, 2002, until 4 p.m. on Friday, January 18, 2002.

ADDRESSES: Unless otherwise indicated, documents referred to in this notice are available for inspection or copying at the office of the Eighth Coast Guard District, Bridge Administration Branch, Commander (obc), 501 Magazine Street, New Orleans, Louisiana 70130-3396 between 7 a.m. and 3 p.m., Monday through Friday, except Federal holidays. The Bridge Administration Branch maintains the public docket for this temporary deviation.

FOR FURTHER INFORMATION CONTACT: David Frank, Bridge Administration Branch, telephone (504) 589-2965.

SUPPLEMENTARY INFORMATION: Presently, the draw is required to open on signal if at least three hours notice is given; except that, from 15 August to 5 June, the draw need not be opened from 7 a.m. to 8 a.m. and from 3 p.m. to 4 p.m., Monday through Friday except holidays. The draw shall open on signal at any time for an emergency aboard a vessel.

During the closure period, the bridge will open at two-hour intervals to allow for the passage of traffic. In case of an emergency, the bridge owner will be able to open the draw as soon as practicable. Navigation on the waterway consists of small tugs with tows, fishing vessels, sailing vessels, and other recreational craft.

The Louisiana Department of Transportation and Development requested this temporary deviation from the normal operation of the drawbridge in order to allow for the removal and replacement of the main pivot pier drive cylinder anchor frames and the bolts connecting the drive cylinders to the anchor frames and overhead pivot girder for the connection of new submarine cables to operate the draw spans of the bridge.

This deviation allows the draw of the SR 315 bridge across the Falgout Canal, mile 3.1, in Terrebonne Parish, Louisiana to remain closed to navigation from 8 a.m. until 4 p.m. each day from January 7 through January 18, 2002. During the scheduled closure, the bridge will open for the passage of vessels at 10 a.m., 12 noon and 2 p.m. The bridge owner will open the draw as soon as practicable for an emergency aboard a vessel.

Dated: December 31, 2001.
J.R. Whitehead,
Captain, U.S. Coast Guard, Commander, 8th Coast Guard Dist., Acting.

[FR Doc. 02-724 Filed 1-10-02; 8:45 am]

BILLING CODE 4910-15-U